DEPARTMENT OF HOMELAND SECURITY

Coast Guard

33 CFR Parts 173, 174, 181, and 187

[Docket No. USCG-2003-14963]

RIN 1625-AB45

Changes to Standard Numbering System, Vessel Identification System, and Boating Accident Report Database

AGENCY: Coast Guard, DHS.

ACTION: Reopening of public comment period.

SUMMARY: The Coast Guard is reopening the public comment period on the proposed rule published May 7, 2010, which concerns proposed changes in the Standard Numbering System, Vessel Identification System, and Boating Accident Report Database.

DATES: Comments and related material must either be submitted to our online docket via http://www.regulations.gov on or before October 15, 2010, or reach the Docket Management Facility by that date.

ADDRESSES: You may submit comments identified by docket number USCG-2003-14963 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this document, call or e-mail Mr. Jeff Ludwig at 2100 2nd St., SW., Stop 7581, Washington, DC 20593-7581; telephone 202-372-1061, Jeffrey.A.Ludwig@uscg.mil. If you have questions on viewing or submitting material to the docket, call Renee V. Wright, Program Manager, Docket Operations, telephone 202-366-9826.

SUPPLEMENTARY INFORMATION:

Public Participation and Request for Comments

We encourage you to submit comments and related material on this rulemaking. All comments received will be posted, without change, to http://www.regulations.gov and will include any personal information you have provided.

Submitting comments: If you submit a comment, please include the docket number for this document (USCG-2003-14963) and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov, click on the “submit a comment” box, which will then become highlighted in blue. In the “Document Type” drop down menu select “Notices” and insert “USCG-2003-14963” in the “Keyword” box. Click “Search” then click on the balloon shape in the “Actions” column. If you submit your comments by mail or hand delivery, submit them in an unbound format, no larger than 8½ by 11 inches, suitable for copying and electronic filing. If you submit them by mail and would like to know that they have reached the Facility, please enclose a stamped, self-addressed postcard or envelope. We will consider all comments and material received during the comment period.

Viewing comments and documents: To view comments and documents related to this rulemaking, go to http://www.regulations.gov, click on the “read comments” box, which will then become highlighted in blue. In the “Keyword” box insert “USCG-2003-14963” and click “Search.” Click the “Open Docket Folder” in the “Actions” column. If you do not have access to the internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Reopening of Comment Period

On May 7, 2010, we published a notice of proposed rulemaking (NPRM) in the Federal Register (75 FR 25137) proposing changes in the Standard Numbering System, Vessel Identification System, and Boating Accident Report Database that, collectively, are intended to improve recreational boating safety efforts, enhance law enforcement capabilities, advance maritime security, and clarify requirements for all stakeholders. The NPRM announced a 90 day public comment period that closed on August 5, 2010.

We have received comments from the National Association of State Boating Law Administrators (NASBLA) and the National Marine Manufacturer's Association (NMMA), each requesting a 90 day extension of the comment period. The NASBLA comment letter noted that the NPRM would be a topic of discussion during their annual conference, which will be held from September 10-14, 2010. Since the comment period has already closed, the Coast Guard will reopen it for an additional period of 60 days. The Coast Guard has determined that reopening the comment period for a period of 60 days is consistent with the public interest. This will allow the comment period to coincide with the NASBLA annual conference and allow members to discuss the NPRM and submit comments after the conference. Adding 60 days to the original 90 day comment period strikes a balance between allowing adequate time to comment on the NPRM and allowing the agency to move forward with the rulemaking project. Accordingly, the comment period is reopened until October 15, 2010.

This document is issued under authority of 5 U.S.C. 553.

Dated: August 9, 2010.
Kevin S. Cook,
Rear Admiral, U.S. Coast Guard, Director of Prevention Policy.

[FR Doc. 2010-20122 Filed 8-13-10; 8:45 am]

BILLING CODE 9110-04-P